DEPARTMENT OF TRANSPORTATION

Office of the Secretary

Privacy Act of 1974: System of Records

AGENCY: Federal Highway Administration, Department of Transportation (DOT).

ACTION: Notice to establish a system of records.

SUMMARY: DOT intends to establish a system of records under the Privacy Act of 1974 entitled the “Dwight David Eisenhower Transportation Fellowship Program” (DDETFP). The system will contain information about students who apply to and participate in the DDETFP. Additional information on this system is described in the Supplementary Information section of this notice.

EFFECTIVE DATE: September 24, 2008. If no comments are received, the proposal will become effective on the above date. If comments are received, the comments will be considered and, where adopted, the documents will be republished with changes.

FOR FURTHER INFORMATION CONTACT: Habib Azarsina, Departmental Privacy Officer, Department of Transportation, Office of the Secretary, 1200 New Jersey Avenue, SE., Washington, DC 20003, 202-366-1965 (telephone), 202-366-7870 (fax), habib.azarsina@dot.gov, (Internet address).

SUPPLEMENTARY INFORMATION: The Department of Transportation system of records notice subject to the Privacy Act of 1974 (5 U.S.C. 552a), as amended, has been published in the Federal Register and is available from the above mentioned address.

System number:

DOT/FHWA 220.

System name:

Dwight David Eisenhower Transportation Fellowship Program.

Security classification:

Sensitive, unclassified.

System location:

This system of records is in the Office of Professional and Corporate Development, Federal Highway Administration.

Categories of individuals covered by the system of records:

This system contains information on students that participate in FHWA's DDETFP.

Categories of records in the system:

The information in the system consists of documents related to the administration of the program that include the students' name, home mailing address, e-mail address, date of birth, education records, home telephone number, race (optional), gender (optional), and citizenship.

Authority for maintenance of the system:

Safe, Accountable, Flexible, Efficient Transportation Equity Act: A Legacy for Users (SAFETEA-LU), Public Law 109.59.

Purposes:

The DDETFP aims to attract qualified students to the field of transportation education and research and advance transportation workforce development. The DDETFP includes seven fellowship categories including the Graduate Fellowships, Historically Black Colleges and Universities Fellowships, Hispanic Serving Institutions Fellowships, Tribal Colleges Fellowships, People with Disabilities Fellowships, Grants for Research, and Intern Fellowships. DDETFP is supported by an automated system that allows for the centralized collection and analysis of vital program information. Information in this system is used to track student progress throughout the education pipeline, identify gaps and evaluate program performance and effectiveness in meeting federal transportation workforce recruitment and development goals. Records contained in this system only will be used for program analysis and evaluation purposes.

Routine uses of records maintained in the system, including categories of users and the purposes of such uses:

To FHWA program staff and contractors directly involved in the administration of the program and system, and to other government agencies when authorized by law. See Prefatory Statement of Routine Uses.

Disclosure to consumer reporting agencies:

None.

Policies and practices for storing, retrieving, accessing, retaining, and disposing of records in the system:

Storage:

Documents are stored in locked cabinets and secured electronically in a database.

Retrievability:

Records are retrievable by name.

Safeguards:

Access to electronic information is limited to program staff and protected via password controls. Physical access to the server and paper files is limited to appropriate personnel through building key cards and room-access keypads. Other security measures include firewalls, routine scans and monitoring, back-up activities, and security background checks.

Retention and disposal:

Pending approval by the National Archives and Records Administration, this system has a proposed record retention of five (5) years for paper and permanent for electronic records.

System manager and address:

Program Manager, Office of Professional and Corporate Development, Federal Highway Administration, 4600 N. Fairfax Drive, Suite 800, Arlington, VA 22203.

Notification procedure:

Same as “System Manager”.

Record access procedures:

Same as “System Manager”.

Contesting record procedures:

Same as “System Manager”.

Record source categories:

Records are obtained via applications/forms that students complete and that come to FHWA directly or via their university.

Exemptions claimed for the system:

None.

Dated: August 11, 2008.
Habib Azarsina,
Departmental Privacy Officer, 202-366-1965.

[FR Doc. E8-18922 Filed 8-14-08; 8:45 am]

BILLING CODE 4910-9X-P